DEPARTMENT OF COMMERCE

National Oceanic and Atmospheric Administration

Review of National Marine Sanctuaries and Marine National Monuments Designated or Expanded Since April 28, 2007; Notice of Opportunity for Public Comment

AGENCY: Office of National Marine Sanctuaries (ONMS), National Ocean Service (NOS), National Oceanic and Atmospheric Administration (NOAA).

ACTION: Notice; request for public comments.

SUMMARY: Pursuant to Executive Order 13795—Implementing an America-First Offshore Energy Strategy, signed on April 28, 2017, the Department of Commerce is conducting a review of all designations and expansions of National Marine Sanctuaries and Marine National Monuments since April 28, 2007. The Secretary of Commerce will use the review to inform the preparation of a report under Executive Order 13795, Sec. 4(b)(ii). This Notice identifies 11 National Marine Sanctuaries and Marine National Monuments subject to the review and invites comments to inform the review.

DATES: Written comments must be submitted no later than July 26, 2017.

ADDRESSES: You may submit comments, identified by docket ID NOAA-NOS-2017-0066 by one of the following methods:

• Electronic submissions: Submit all electronic public comments via the Federal eRulemaking Portal. Go to http://www.regulations.gov/#!docketDetail;D=NOAA-NOS-2017-0066, click the “Comment Now!” icon, complete the required fields, and enter or attach your comments.

• Mail: E.O. 13795 Review, National Oceanic and Atmospheric Administration, Silver Spring Metro Campus Building 4 (SSMC4), Eleventh Floor, 1305 East-West Highway, Silver Spring, MD 20910.

Instructions: Comments sent by any other method, to any other address or individual, or received after the end of the comment period, may not be considered by NOAA. All comments received are a part of the public record and will be posted to http://www.regulations.gov without change. All Personal Identifying Information (for example, name, address, etc.) voluntarily submitted by the commenter may be publicly accessible. Do not submit confidential business information or otherwise sensitive or protected information. NOAA will accept anonymous comments (for electronic comments submitted through the Federal eRulemaking Portal, enter “N/A” in the required fields if you wish to remain anonymous).

FOR FURTHER INFORMATION CONTACT: William Douros, 831-647-1920, National Oceanic and Atmospheric Administration, Silver Spring Metro Campus Building 4 (SSMC4), Eleventh Floor, 1305 East-West Highway, Silver Spring, MD 20910.

SUPPLEMENTARY INFORMATION: Executive Order 13795 of April 28, 2017 directs the Secretary of Commerce to review National Marine Sanctuaries and Marine National Monuments designated or expanded since April 28, 2007. Specifically, section 4(b)(i) of Executive Order 13795 directs the Secretary to conduct, in consultation with the Secretary of Defense, Secretary of the Interior, and Secretary of Homeland Security, a review to include:

(A) An analysis of the acreage affected and an analysis of the budgetary impacts of the costs of managing each National Marine Sanctuary or Marine National Monument designation or expansion;

(B) An analysis of the adequacy of any required Federal, State and tribal consultations conducted before the designations or expansions; and

(C) The opportunity costs associated with potential energy and mineral exploration and production from the Outer Continental Shelf, in addition to any impacts on production in the adjacent region.

The Secretary shall complete this review and, in consultation with the Secretary of Defense and the Secretary of the Interior, prepare and submit a report on the results of the review to the Director of the Office of Management and Budget, the Chairman of the Council on Environmental Quality and the Assistant to the President for Economic Policy within 180 days (by October 25, 2017).

Pursuant to Executive Order 13795, Sec. 4(b), the Department of Commerce's review of National Marine Sanctuary and Marine National Monument designations and expansions is limited to those designations or expansions listed in the table below.

National Marine Sanctuaries and Marine National Monuments Under Review Pursuant to EO 13795, Sec. 4(b)
Name | Location | Action | Date | Size in acres | Federal Register citation
Channel Islands National Marine Sanctuary | California | Expansion | May 24, 2007 | 9,600 | 72 FR 29,208 (May 24, 2007).
Cordell Bank National Marine Sanctuary | California | Expansion | March 12, 2015 | 484,480 | 80 FR 13,078 (March 12, 2015).
Greater Farallones National Marine Sanctuary | California | Expansion | March 12, 2015 | 1,288,320 | 80 FR 13,078 (March 12, 2015).
Marianas Trench Marine National Monument | Commonwealth of the Northern Mariana Islands/Pacific Ocean | Designation | January 6, 2009 | 60,938,240 | 74 FR 1,557 (January 12, 2009).
Monterey Bay National Marine Sanctuary | California | Expansion | November 20, 2008 | 496,000 | 73 FR 70,488 (November 20, 2008).
National Marine Sanctuary of American Samoa | American Samoa | Expansion | July 26, 2012 | 8,691,840 | 77 FR 43,942 (July 26, 2012).
Northeast Canyons and Seamounts Marine National Monument | Atlantic Ocean | Designation | September 15, 2016 | 3,114,320 | 81 FR 65,161 (September 21, 2016).
Pacific Remote Islands Marine National Monument | Pacific Ocean | Designation; Expansion | January 6, 2009; September 25, 2014 | 55,608,320 | 74 FR 1,565 (January 12, 2009); 79 FR 58,645 (September 29, 2014).
Papahānaumokuākea Marine National Monument | Hawaii | Expansion | August 26, 2016 | 283,379,840 | 81 FR 60,227 (August 31, 2016).
Rose Atoll Marine National Monument 1 | American Samoa | Designation | January 6, 2009 | 8,608,640 | 74 FR 1,577 (January 12, 2009).
Thunder Bay National Marine Sanctuary | Michigan | Expansion | September 5, 2014 | 2,465,280 | 79 FR 52,960 (September 5, 2014).

The area of the original designations for the five listed National Marine Sanctuaries and Papahānaumokuākea Marine National Monument are not subject to this review, rather only their respective expansion areas completed in the past 10 years.

¹ All of Rose Atoll Marine National Monument is contained within National Marine Sanctuary of American Samoa.

The Department of Commerce seeks public comments related to the application of factors in Sec. 4(b)(i)(A), (B) and (C), as stated in Executive Order 13795, to the National Marine Sanctuary expansions and designation and expansions of the Marine National Monuments indicated above.

Under Executive Order 13792—Review of Designations Under the Antiquities Act (signed April 26, 2017), the Department of the Interior is conducting a review of National Monuments pursuant to a separate set of factors (See the Department of the Interior's Federal Register Notice—Review of Certain National Monuments Established Since 1996; Notice of Opportunity for Public Comment; 82 FR 22016, May 11, 2017). The Department of Commerce is collaborating with the Department of the Interior on this review for Marine National Monuments, in conjunction with Department of Commerce's review under Executive Order 13795. The Department of Commerce will receive a copy of and consider all public comments submitted during the Department of the Interior's public comment period for Executive Order 13792 for Marine National Monuments that are affected by Executive Orders 13792 and 13795.

Accordingly, identical or substantively similar comments submitted as a part of the Department of the Interior's public comment period should not be re-submitted to the Department of Commerce in response to this Federal Register notice regarding public comment on the factors under Executive Order 13795, Sec. 4(b).

Authority: Executive Order 13795.

Dated: June 20, 2017.
Nicole Le Boeuf,
Deputy Assistant Administrator For Ocean Services and Coastal Management.

[FR Doc. 2017-13308 Filed 6-23-17; 8:45 am]

BILLING CODE 3510-NK-P